DEPARTMENT OF TRANSPORTATION

Federal Aviation Administration

14 CFR Part 71

[Docket No. FAA-2015-7486; Airspace Docket No. 15-AGL-26]

Amendment of Class D and Class E Airspace; Wilmington, OH

AGENCY: Federal Aviation Administration (FAA), DOT.

ACTION: Final rule; correction.

SUMMARY: This correction amends the final rule published in the Federal Register of February 8, 2016, amending the Class E surface area airspace and Class E airspace designated as an extension at Wilmington Air Park, Wilmington, OH. This correction adds part-time Notice to Airmen (NOTAM) language inadvertently removed to the Class E surface area description. The geographic coordinates and airport name of Wilmington Air Park in Class D and E airspace, and in Class E airspace extending upward from 700 feet above the surface are added to the rule. The Title is also amended to include Class D airspace.

DATES: Effective 0901 UTC, April 5, 2016. The compliance date for this rule is March 31, 2016. The Director of the Federal Register approves this incorporation by reference action under Title 1, Code of Federal Regulations, part 51, subject to the annual revision of FAA Order 7400.9 and publication of conforming amendments.

FOR FURTHER INFORMATION CONTACT: Jeffrey Claypool, Federal Aviation Administration, Operations Support Group, Central Service Center, 10101 Hillwood Parkway, Fort Worth, TX, 76177; telephone (817) 222-5711.

SUPPLEMENTARY INFORMATION:

History

The Federal Register published a final rule amending Class E airspace at Wilmington Air Park, Wilmington, OH, (81 FR 6450, February 8, 2016) Docket No. FAA-2015-7486. Subsequent to publication, the FAA found in amending the airport name and airport reference point for the airport, additional existing controlled airspace was inadvertently omitted from the rule. This action adds adjustment of the geographic coordinates in Class D airspace and Class E airspace extending upward from 700 feet or more above the surface of the Earth at Wilmington Air Park.

The FAA also determined that the part-time NOTAM language in the Class E surface area description was inadvertently removed in error. Potential safety concerns were identified due to the possibility for confusion in determining the operating rules and equipment requirements in the Wilmington Air Park terminal area. The concerns were based on the opportunity for part-time Class D surface area airspace and continuous Class E surface area airspace to be active at the same time.

To resolve these concerns, the FAA is keeping the part-time NOTAM language in the Class E surface area description to retain it as part-time airspace supplementing the existing part-time Class D surface area airspace at Wilmington Air Park. The regulatory text is rewritten for clarity.

Correction to Final Rule

Accordingly, pursuant to the authority delegated to me, in the Federal Register of February 8, 2016 (81 FR 6450) FR Doc. 2016-02284, Amendment of Class E Airspace, Wilmington, OH, is corrected as follows:

§ 71.1 [Amended]

On page 6451, column 1, after line 31, add the following:

Paragraph 5000 Class D Airspace.

* * * * *

AGL OH D Wilmington, OH [Corrected]

Wilmington, Wilmington Air Park, OH

Lat. 39°25′41″ N., long. 083°47′32″ W.)

Wilmington, Hollister Field Airport, OH

Lat. 39°26′15″ N., long. 083°42′30″ W.)

That airspace extending upward from the surface to and including 3,600 feet MSL within a 4.2-mile radius of the Wilmington Air Park, excluding that portion of airspace within a 1-mile radius of Hollister Field Airport. This Class D airspace area is effective during the specific dates and times established in advance by a Notice to Airmen. The effective date and time will thereafter be continuously published in the Airport/facility directory.

* * * * *

AGL OH E2 Wilmington, OH [Corrected]

On page 6451, column 1, beginning on line 40, remove the following text:

“Within a 4.2-mile radius of Wilmington Air Park, and within 3.7 miles each side of the Midwest VOR/DME 215° radial extending from the 4.2-mile radius of Wilmington Air Park to 7 miles southwest of the airport, and within 3.7 miles each side of the Midwest VOR/DME 041° radial extending from the 4.2-mile radius of the airport to 7 miles northeast of the airport, excluding that portion of airspace within a 1-mile radius of Hollister Field Airport.”

And add in its place:

“Within a 4.2-mile radius of Wilmington Air Park, and within 3.7 miles each side of the Midwest VOR/DME 215° radial extending from the 4.2-mile radius of Wilmington Air Park to 7 miles southwest of the airport, and within 3.7 miles each side of the Midwest VOR/DME 041° radial extending from the 4.2-mile radius of the airport to 7 miles northeast of the airport, excluding that portion of airspace within a 1-mile radius of Hollister Field Airport. This Class E airspace area is effective during the specific dates and times established in advance by a Notice to Airmen. The effective date and time will thereafter be continuously published in the Airport/facility Director.”

On page 6451, column 2, after line 11, add the following:

Paragraph 6005 Class E Airspace Areas Extending Upward From 700 Feet or More Above the Surface of the Earth.

* * * * *

AGL OH E5 Wilmington, OH [Corrected]

Wilmington, Wilmington Air Park, OH

Lat. 39°25′41″ N., long. 083°47′32″ W.)

Midwest VOR/DME

Lat. 39°25′47″ N., long. 083°48′04″ W.)

That airspace extending upward from 700 feet above the surface within an 7-mile radius of Wilmington Air Park and within 4.6 miles each side of the Midwest VOR/DME 041° radial, extending from the 7-mile radius to 11.3 miles northeast of Wilmington Air Park.

Issued in Fort Worth, Texas, on March 28, 2016.
Robert W. Beck,
Manager, Operations Support Group, ATO Central Service Center.

[FR Doc. 2016-07714 Filed 3-31-16; 4:15 pm]

BILLING CODE 4910-13-P